FEDERAL RESERVE SYSTEM

Agency Information Collection Activities: Announcement of Board Approval Under Delegated Authority and Submission to OMB

AGENCY: Board of Governors of the Federal Reserve System.

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW., Washington, DC 20503.

Final approval under OMB delegated authority of the extension for three years, with revision, of the following report:

Report title: Report of Transaction Accounts, Other Deposits, and Vault Cash.

Agency form number: FR 2900.

OMB control number: 7100-0087.

Frequency: Weekly and quarterly.

Reporters: Depository institutions.

Estimated annual reporting hours: 192,473.

Estimated average hours per response: 1.25 hours for weekly filers and 3 hours for quarterly filers.

Number of respondents: 2,053 weekly and 4,919 quarterly.

General description of report: This information collection is mandatory by the Federal Reserve Act (12 U.S.C. 248(a), 461, 603, and 615) and Regulation D (12 CFR 204). The data are given confidential treatment (5 U.S.C. 552(b)(4)).

Abstract: Institutions with net transaction accounts greater than the exemption amount are called nonexempt institutions. Institutions with total transaction accounts, savings deposits, and small time deposits greater than or equal to the reduced reporting limit, regardless of the level of their net transaction accounts, are also referred to as nonexempt institutions. Nonexempt institutions submit FR 2900 data either weekly or quarterly. An institution is required to report weekly if its total transaction accounts, savings deposits, and small time deposits are greater than or equal to the nonexempt deposit cutoff. If the nonexempt institution's total transaction accounts, savings deposits, and small time deposits are less than the nonexempt deposit cutoff then the institution must report quarterly or may elect to report weekly. U.S. branches and agencies of foreign banks and banking Edge and agreement corporations submit the FR 2900 data weekly, regardless of their size. These mandatory data are used by the Federal Reserve for administering Regulation D (Reserve Requirements of Depository Institutions) and for constructing, analyzing, and monitoring the monetary and reserve aggregates.

Current Actions: On May 12, 2015 the Federal Reserve published a notice in the Federal Register (80 FR 27171) requesting public comment for 60 days on the extension, with revision, of the Report of Transaction Accounts, Other Deposits, and Vault Cash. The comment period for this notice expired on July 13, 2015. The Federal Reserve received one comment supporting the revisions. The revisions will be implemented as proposed, effective with an October 2015 as-of date.

Final approval under OMB delegated authority of the extension for three years, without revision, of the following reports:

1. Report title: Supervisory and Regulatory Survey.

Agency form number: FR 3052.

OMB control number: 7100-0322.

Frequency: On occasion.¹

¹ The Federal Reserve conducts the survey as needed up to 24 times per year.

Reporters: Financial businesses.

Estimated annual reporting hours: 60,000 hours.

Estimated average hours per response: 0.5 hours.

Number of respondents: 5,000.

General description of report: This information collection is authorized pursuant to the: Federal Reserve Act, (12 U.S.C. 225a, 324, 263, 602, and 625); Bank Holding Company Act, (12 U.S.C. 1844(c)); International Banking Act of 1978, (12 U.S.C. 3105(c)(2)); and Federal Deposit Insurance Act, (12 U.S.C. 1817(a)). Generally, respondent participation is voluntary. However, with respect to collections of information from state member banks, bank holding companies (and their subsidiaries), Edge and agreement corporations, and U.S. branches and agencies of foreign banks supervised by the Federal Reserve, the Federal Reserve could make the surveys mandatory. The ability of the Federal Reserve to maintain the confidentiality of information provided by respondents to the FR 3052 surveys is determined on a case-by-case basis depending on the type of information provided for a particular survey. Depending upon the survey questions, confidential treatment could be warranted under subsections (b)(4), (b)(6), and (b)(8) of the Freedom of Information Act (5 U.S.C. 552(b)(4), (6), and (8)).

Abstract: The supervision and policy functions of Federal Reserve have occasionally needed to gather data on an ad-hoc basis from the banking and financial industries on their financial condition (outside of the standardized regulatory reporting process) and decisions that organizations have made to adjust to the changes in the economy. Further, the data may relate to a particular business activity that requires a more detailed presentation of the information than is available through regulatory reports such as the (FFIEC 031 and FFIEC 041; OMB No. 7100-0036) (FFIEC 002; OMB No. 7100-0032) (FR 2886b; OMB No. 7100-0086), and (FR Y-9C; OMB No. 7100-0128). These data may be particularly needed in times of critical economic or regulatory changes or when issues of immediate supervisory concern arise from Federal Reserve supervisory initiatives and working groups or requests from Board Members and the Congress. The Federal Reserve uses this event-driven survey to obtain information specifically tailored to the Federal Reserve's supervisory, regulatory, operational, and other responsibilities. The Federal Reserve conducts the survey as needed up to 24 times per year. The frequency and content of the questions depend on changing economic, regulatory, supervisory, or legislative developments.

Current Actions: On May 14, 2015, the Federal Reserve published a notice in the Federal Register (80 FR 27686) requesting public comment for 60 days on the extension, without revision, of the Supervisory and Regulatory Survey. The comment period for this notice expired on July 13, 2015. The Federal Reserve did not receive any comments. The information collection will be extended for three years, without revision, as proposed.

2. Report title: Consumer Financial Stability Surveys.

Agency form number: FR 3053.

OMB control number: 7100-0323.

Frequency: On occasion.²

² The Federal Reserve conducts the survey as needed up to 20 times per year.

Reporters: Individuals, households, and financial and non-financial businesses.

Estimated annual reporting hours: Consumer Surveys: Quantitative and general surveys, 4,000 hours, Financial institution consumers, 1,000 hours, and Qualitative surveys, 600 hours; Financial institution survey: Financial institution staff, 150 hours; Stakeholder surveys: Stakeholder clientele, 500 hours and Stakeholder staff, 300 hours.

Estimated average hours per response: Consumer surveys: Quantitative and general surveys, 0.5 hours, Financial institution consumers, 0.5 hours and Qualitative surveys, 1.5 hours; Financial institution survey: Financial institution staff, 1.5 hours; Stakeholder surveys: Stakeholder clientele, 0.5 hours and Stakeholder staff, 1.5 hours.

Number of respondents: Consumer surveys: Quantitative and general surveys, 2000 respondents, Financial institution consumers, 500 respondents and Qualitative surveys, 100 respondents; Financial institution surveys: Financial institution staff, 25 respondents; Stakeholder surveys: Stakeholder clientele, 500 respondents and Stakeholder staff, 100 respondents.

General description of report: This information collection is generally voluntary (Federal Reserve Act, Sections 2A and 12A (12 U.S.C. 225a and 263)). In addition, depending upon the survey questions asked, the information collection may be authorized under one or more consumer protection statutes (Community Reinvestment Act, (12 U.S.C. 2905); Competitive Equality Banking Act, (12 U.S.C. 3806); Expedited Funds Availability Act, (12 U.S.C. 4008); Truth in Lending Act, (15 U.S.C. 1604); Fair Credit Reporting Act, (15 U.S.C. 1681s(e)); Equal Credit Opportunity Act, (15 U.S.C. 1691b); Electronic Funds Transfer Act, (15 U.S.C. 1693b and 1693o-2); Gramm-Leach-Bliley Act, (15 U.S.C. 6801(b)); and Flood Disaster Protections Act of 1973, (42 U.S.C. 4012a)). Additionally, depending on the survey respondent, the information collection may be authorized under a more specific statute (Federal Reserve Act, Section 9, 25, and 25A (12 U.S.C. 324, 602, and 625); Bank Holding Company Act, Section 5(c) (12 U.S.C. 1844(c)); International Banking Act of 1978, Section 7(c)(2) (12 U.S.C. 3105(c)(2)); and Federal Deposit Insurance Act, Section 7(a) (12 U.S.C. 1817(a))). However, with respect to collections of information from state member banks, bank holding companies (and their subsidiaries), Edge and agreement corporations, and U.S. branches and agencies of foreign banks authorized under the specific statutes noted above, the Federal Reserve could make the obligation to respond mandatory. In circumstances where the Board collects that data or the contractor provides the identifying information to the Board, such information could possibly be protected from Freedom of Information Act (FOIA) disclosure by FOIA exemptions 4 and 6 (5 U.S.C. 552(b)(4) and (6)).

Abstract: Board staff uses this event-driven survey to obtain information specifically tailored to the Federal Reserve's supervisory, regulatory, operational, informational, and other responsibilities. Board staff is authorized to conduct the FR 3053 up to 20 times per year, although the survey may not be conducted that frequently. The frequency and content of the questions depends on changing economic, regulatory, or legislative developments as well as changes in the financial services industry itself. Respondents comprise individuals, households, and financial and non-financial businesses. The annual burden is estimated to be 6,550 hours, based on twenty surveys: Three quarterly consumer-focused, one quarterly financial institution study, and two semi-annual stakeholder-focused surveys. The surveys are used to gather qualitative and quantitative information directly from: Consumers (consumer surveys), financial institutions and other financial companies offering consumer financial products and services (financial institution survey), and other stakeholders, such as state or local agencies, community development organizations, brokers, appraisers, settlement agents, software vendors, and consumer groups (stakeholder surveys).

Current Actions: On May 14, 2015, the Federal Reserve published a notice in the Federal Register (80 FR 27686) requesting public comment for 60 days on the extension, without revision, of the Consumer Financial Stability Surveys. The comment period for this notice expired on July 13, 2015. The Federal Reserve did not receive any comments. The information collection will be extended for three years, without revision, as proposed.

3. Report title: Annual Report of Deposits and Reservable Liabilities.

Agency form number: FR 2910a.

OMB control number: 7100-0175.

Frequency: Annually.

Reporters: Depository institutions.

Estimated annual reporting hours: 2,551.

Estimated average hours per response: 0.75 hours.

Number of respondents: 3,401.

General description of report: This information collection is mandatory by the Federal Reserve Act (12 U.S.C. 248(a), 461, 603, and 615) and Regulation D (12 CFR 204). The data are given confidential treatment (5 U.S.C. 552(b)(4)).

Abstract: The FR 2910a is an annual report generally filed by depository institutions that are exempt from reserve requirements under the Garn-St Germain Depository Institutions Act of 1982 and whose total deposits, measured from depository institutions' December quarterly condition reports, are greater than the exemption amount but less than the reduced reporting limit. The report contains three data items that are to be submitted for a single day, June 30: (1) Total transaction accounts, savings deposits, and small time deposits; (2) reservable liabilities; and (3) net transaction accounts. The data collected on this report serves two purposes. First, the data are used to determine which depository institutions will remain exempt from reserve requirements and consequently eligible for reduced reporting for another year. Second, the data are used in the annual indexation of the low reserve tranche, the exemption amount, the nonexempt deposit cutoff, and the reduced reporting limit.

Current Actions: On May 12, 2015 the Federal Reserve published a notice in the Federal Register (80 FR 27171) requesting public comment for 60 days on the extension, without revision, of the Annual Report of Deposits and Reservable Liabilities. The comment period for this notice expired on July 13, 2015. The Federal Reserve did not receive any comments. The information collection will be extended for three years, without revision, as proposed.

4. Report title: Report of Foreign (Non-U.S.) Currency Deposits.

Agency form number: FR 2915.

OMB control number: 7100-0237.

Frequency: Quarterly.

Reporters: Depository institutions.

Estimated annual reporting hours: 288.

Estimated average hours per response: 0.5 hours.

Number of respondents: 144.

General description of report: This information collection is mandatory by the Federal Reserve Act (12 U.S.C. 248(a), 461, 603, and 615) and Regulation D (12 CFR 204). The data are given confidential treatment (5 U.S.C. 552(b)(4)).

Abstract: All FR 2900 respondents, both weekly and quarterly, that offer deposits denominated in foreign currencies at their U.S. offices file the FR 2915 quarterly on the same reporting schedule as quarterly FR 2900 respondents. Foreign currency deposits are subject to reserve requirements and, therefore, are included in the FR 2900 data. However, because foreign currency deposits are not included in the monetary aggregates, the FR 2915 data are used to net foreign currency-denominated deposits from the FR 2900 data in order to exclude them from measures of the monetary aggregates. The FR 2915 is the only source of data on such deposits.

Current Actions: On May 12, 2015 the Federal Reserve published a notice in the Federal Register (80 FR 27171) requesting public comment for 60 days on the extension, without revision, of the Report of Foreign (Non-U.S.) Currency Deposits. The comment period for this notice expired on July 13, 2015. The Federal Reserve did not receive any comments. The information collection will be extended for three years, without revision, as proposed.

5. Report title: Allocation of Low Reserve Tranche and Reservable Liabilities Exemption.

Agency form number: FR 2930.

OMB control number: 7100-0088.

Frequency: Annually and on occasion.

Reporters: Depository institutions.

Estimated annual reporting hours: 30.

Estimated average hours per response: 0.25 hours.

Number of respondents: 120.

General description of report: This information collection is mandatory by the Federal Reserve Act (12 U.S.C. 248(a), 461, 603, and 615) and Regulation D (12 CFR 204). The data are given confidential treatment (5 U.S.C. 552(b)(4)).

Abstract: Institutions with offices (or groups of offices) in more than one state or Federal Reserve District, or those operating under operational convenience, are required to file the FR 2930 at least annually. An institution's net transaction accounts up to the exemption amount ($14.5 million in 2015) are reserved at zero percent. Net transaction accounts up to the low reserve tranche ($103.6 million in 2015) are reserved at 3 percent while amounts in excess of this amount are reserved at 10 percent. Only a single exemption amount and a single low reserve tranche are allowed per depository institution (including subsidiaries). Therefore, an institution that submits separate FR 2900 reports covering different offices is required to file the FR 2930 at least annually to allocate its reservable liabilities exemption and low reserve tranche among its offices. The Federal Reserve Board does not propose any changes to this report.

Current Actions: On May 12, 2015 the Federal Reserve published a notice in the Federal Register (80 FR 27171) requesting public comment for 60 days on the extension, without revision, of the Allocation of Low Reserve Tranche and Reservable Liabilities Exemption. The comment period for this notice expired on July 13, 2015. The Federal Reserve did not receive any comments. The information collection will be extended for three years, without revision, as proposed.

Board of Governors of the Federal Reserve System, July 20, 2015.
Robert deV. Frierson,
Secretary of the Board.

[FR Doc. 2015-18056 Filed 7-22-15; 8:45 am]

BILLING CODE 6210-01-P